FEDERAL COMMUNICATIONS COMMISSION

47 CFR Part 15

[ET Docket No. 18-295, GN Docket No. 17-183; DA 20-632; FRS 16892]

Unlicensed Use of the 6 GHz Band

AGENCY: Federal Communications Commission.

ACTION: Denial of request for comment period extension.

SUMMARY: In this document, the Office of Engineering and Technology respond to Ultra Wide Band Alliance (UWB Alliance) request seeking a 30-day extension of the comment period for the proposed rule published in the Federal Register on May 28, 2020. It is the general policy of the Commission that extensions of time shall not be routinely granted. The Commission denies the request of UWB Alliance to extend the deadline for filing comments and replies in the Unlicensed Use of the 6 GHz Band proceeding.

DATES: Request on comment extension for the proposed rule published at 85 FR 31997, May 28, 2020, denied June 16, 2020.

ADDRESSES: Federal Communications Commission, 445 12th Street SW, Washington, DC 20554.

FOR FURTHER INFORMATION CONTACT: Nicholas Oros, Office of Engineering and Technology, 202-418-0636, Nicholos.Oros@fcc.gov.

SUPPLEMENTARY INFORMATION: This is a summary of the Commission's Order, ET Docket No. 18-295, GN Docket No. 17-183, DA 20-632, adopted June 16, 2020, and released June 16, 2020. The full text of this document is available for inspection and copying during normal business hours in the FCC Reference Center (Room CY-A257), 445 12th Street SW, Washington, DC 20554. The full text may also be downloaded at: https://www.fcc.gov/document/uwb-alliances-request-extension-comments-deadline-denied.

People with Disabilities: To request materials in accessible formats for people with disabilities (braille, large print, electronic files, audio format), send an email to fcc504@fcc.gov or call the Consumer & Governmental Affairs Bureau at 202-418-0530 (voice), 202-418-0432 (tty).

Federal Communications Commission.
Ronald T. Repasi,
Acting Chief, Office of Engineering and Technology.

[FR Doc. 2020-15476 Filed 7-20-20; 8:45 am]

BILLING CODE 6712-01-P